FEDERAL DEPOSIT INSURANCE CORPORATION

Sunshine Act Meetings: Notice of Meeting Held With Less Than Seven Days Advance Notice

TIME AND DATE: 10:00 a.m. on November 25, 2025.

PLACE: The meeting was held in the FDIC Board Room, 550 17th Street NW, Washington, DC, and was webcast to the public.

STATUS: Open to public observation via webcast.

MATTERS TO BE CONSIDERED: Pursuant to the provisions of the “Government in the Sunshine Act” (5 U.S.C. 552b), notice is given that the Federal Deposit Insurance Corporation's Board of Directors met in open session to consider the following matters:

Summary Agenda

Final Rule: Adjusting and Indexing Certain Regulatory Thresholds.

Designated Reserve Ratio for 2026.

Final Rule; Delay of Compliance Date: FDIC Official Signs and Advertising Requirements, False Advertising, Misrepresentation of Insured Status, and Misuse of the FDIC's Name or Logo.

Minutes of a Board of Directors' Meeting Previously Distributed.

Discussion Agenda

Notice of Proposed Rulemaking: Regulatory Capital Rule: Revisions to the Community Bank Leverage Ratio Framework.

Final Rule: Regulatory Capital Rule: Modifications to the Enhanced Supplementary Leverage Ratio Standards for U.S. Global Systemically Important Bank Holding Companies and Their Subsidiary Depository Institutions; Total Loss-Absorbing Capacity and Long-Term Debt Requirements for U.S. Global Systemically Important Bank Holding Companies.

CONTACT PERSON FOR MORE INFORMATION: For further information, please contact Debra A. Decker, Executive Secretary, FDIC, at FDICBoardMatters@fdic.gov.

Authority: 5 U.S.C. 552b.

Dated at Washington, DC, on November 25, 2025.
Federal Deposit Insurance Corporation.
Debra A. Decker,
Executive Secretary.

[FR Doc. 2025-21508 Filed 11-25-25; 4:15 pm]

BILLING CODE 6714-01-P